FEDERAL COMMUNICATIONS COMMISSION

Sunshine Act Meeting; Open Commission Meeting; Thursday, August 27, 2009

Date: August 20, 2009. The Federal Communications Commission will hold an Open Meeting on the subjects listed below on Thursday, August 27, 2009, which is scheduled to commence at 10:00 a.m. in Room TW-C305, at 445 12th Street, SW., Washington, DC.

ITEM NO. | BUREAU | SUBJECT
1 | WIRELESS TELE-COMMUNICATIONS & OFFICE OF ENGINEERING AND TECHNOLOGY | TITLE: Fostering Innovation and Investment in the Wireless Communications Market; A National Broadband Plan For Our Future (GN Docket No. 09-51) SUMMARY: The Commission will consider a Notice of Inquiry to seek to understand better the factors that encourage innovation and investment in wireless and to identify concrete steps the Commission can take to support and encourage further innovation and investment in this area.
2 | WIRELESS TELE-COMMUNICATIONS | TITLE: Implementation of Section 6002(b) of the Omnibus Budget Reconciliation Act of 1993 (WT Docket No. 09-66); Annual Report and Analysis of Competitive Market Conditions With Respect to Mobile Wireless including Commercial Mobile Services SUMMARY: The Commission will consider a Notice of Inquiry soliciting information for the next annual report to Congress on the status of competition in the mobile wireless market, including commercial mobile services.
3 | CONSUMER AND GOVERNMENTAL AFFAIRS | TITLE: Consumer Information and Disclosure; Truth-in-Billing and Billing Format (CC Docket No. 98-170); IP-Enabled Services (WC Docket No. 04-36) SUMMARY: The Commission will consider a Notice of Inquiry that seeks comment on whether there are opportunities to protect and empower American consumers by ensuring sufficient access to relevant information about communications services.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov <mailto:fcc504@fcc.gov> or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events web page at www.fcc.gov/realaudio <http://www.fcc.gov/realaudio>.

For a fee this meeting can be viewed live over George Mason University's Capitol Connection. The Capitol Connection also will carry the meeting live via the Internet. To purchase these services call (703) 993-3100 or go to www.capitolconnection.gmu.edu <http://www.capitolconnection.gmu.edu>.

Federal Communications Commission
William F. Caton,
Deputy Secretary.

[FR Doc. E9-20562 Filed 8-24-09; 8:45 am]

BILLING CODE 6712-01-S